DEPARTMENT OF AGRICULTURE

Food and Nutrition Service

Agency Information Collection Activities: Proposed Collection; Comment Request—Evaluation of SNAP Nutrition Education Practices Study

AGENCY: Food and Nutrition Service (FNS), USDA.

ACTION: Notice.

SUMMARY: In accordance with the Paperwork Reduction Act of 1995, this notice invites the general public and other public agencies to comment on the proposed collection of data for the Evaluation of Supplemental Nutrition Assistance Program (SNAP) Nutrition Education (-Ed) Practices Study. The goal of SNAP-Ed is to improve the likelihood that SNAP participants and those eligible to participate will make healthy choices within a limited budget and choose active lifestyles consistent with the current Dietary Guidelines for Americans and the USDA Food Guidance System. With limited resources, SNAP-Ed nutrition educators attempt to tailor their messages to fit the varying needs of differing populations and evaluate the extent to which their efforts result in positive, voluntary changes in nutrition behaviors.

The Evaluation of SNAP Nutrition Education Practices is an extension of the current Models of SNAP-Ed and Evaluation Study, conducting rigorous, independent evaluations of an additional three SNAP-Ed demonstration projects. Each of the demonstration projects is also conducting an impact evaluation assessment which will be compared to FNS's more rigorous, independent evaluation. In conjunction with the Models of SNAP-Ed and Evaluation Study, the Evaluation of SNAP Nutrition Education Practices will provide FNS with a total of seven sound, independent estimates of the effectiveness of SNAP-Ed approaches, and will provide SNAP-Ed educators with examples of evaluation designs that are both feasible and scientifically robust.

DATES: Written comments must be submitted on or before November 8, 2010.

ADDRESSES: Comments are invited on (a) whether the proposed data collection of information is necessary for the proper performance of the functions of the agency, including whether the information has practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Comments may be sent to: Steven Carlson, Director, Office of Research and Analysis, U.S. Department of Agriculture, Food and Nutrition Service, 3101 Park Center Drive, Room 1014, Alexandria, VA 22302. Comments may also be submitted via fax to the attention of Steven Carlson at 703-305-2576 or via e-mail to Steve.Carslon@fns.usda.gov. Comments will also be accepted through the Federal eRulemaking Portal. Go to http://www.regulations.gov and follow the online instructions for submitting comments electronically.

All written comments will be open for public inspection at the office of the Food and Nutrition Service during regular business hours (8:30 a.m. to 5 p.m., Monday through Friday) at Room 1014, 3101 Park Center Drive, Alexandria, Virginia 22302.

All responses to this notice will be summarized and included in the request for Office of Management and Budget approval. All comments will also be a matter of public record.

FOR FURTHER INFORMATION CONTACT: Requests for additional information should be directed to Steven Carlson on 703-305-2017.

SUPPLEMENTARY INFORMATION:

Title: Evaluation of SNAP Nutrition Education Practices.

OMB Number: 0584-0554.

Expiration Date: 1/31/2013.

Type of Request: Revision of currently approved data collection.

Abstract: The purposes of the Evaluation of SNAP Nutrition Education Practices Study are to (1) demonstrate that nutrition education through SNAP can bring about meaningful behavioral change, and (2) show that nutrition education implementers can mount meaningful intervention outcome evaluations.

In fiscal year 2010, three nutrition education interventions were selected to participate as demonstration projects for this study. The three demonstration projects that will be approved under their States' Annual SNAP-Ed Plan are:

The Iowa Nutrition Network (INN) will use its BASICS program and Pick a Better Snack campaign to test the hypothesis that nutrition education delivered through a multi-channel approach will produce better results than one limited to school-based channels.

The University of Kentucky Extension Service is modifying its Literacy, Eating and Activity for Preschoolers (LEAP I) to be suitable for first and third graders in two rural, Appalachian school districts. The University of Kentucky self-evaluation will be a randomized control trial using pre-intervention, post-intervention and follow-up measurement of fruit and vegetable consumption. Measurement will be conducted, in part, by photographic plate waste assessment.

The Michigan State University Extension Service will administer the Eat Smart, Live Strong nutrition education program for older Americans in 9 Michigan counties of which approximately two-thirds are rural. The self-evaluation component involves the pairing of 24 senior centers and subsequent random assignment to experimental condition. At both treatment and control sites, pre-intervention and post-intervention measurements of fruit and vegetable consumption will be made.

Respondent Type: Individuals or Households, State and Local Government, Business (for and not for profit).

Affected Public: Parents and educators in Council Bluffs, Davenport, Des Moines, and Waterloo Counties, Iowa; older Americans, ages 60 and up, in 9 counties dispersed throughout Michigan, but especially the Upper Peninsula, as well as seniors' center staff; and parents and educators in Laurel and Perry Counties, Kentucky.

Estimated Number of Respondents: 909 parents of third graders, 6 nutrition educators, 6 school principals, 3 food service directors, 6 retail store produce managers, and 50 third grade teachers in Iowa; 864 elder Americans (60+), 16 nutrition educators, 6 seniors' center program managers, and 5 subprogram level seniors' center staff in Michigan; and 800 parents of elementary school students, 50 elementary school teachers, 4 school principals, 4 nutrition educators and 4 subprogram level staff in Kentucky.

Estimated Number of Responses per Respondent: 2 for parents; 2 for nutrition educators/dietitians/staff; 2 for elder Americans; 1 for classroom teachers, principals, food service directors, retail produce managers and seniors' center directors. An additional 2 responses for 13 of the parents consenting to participate in in-depth, open-ended, process discussions. An additional response for 28 of the classroom teachers consenting to participate in in-depth, open-ended process discussions. An additional response for 56 parents in Iowa and Kentucky who consent to participate in structured group interviews. An additional response for 48 Michigan seniors who consent to participate in structured group interviews.

Estimated Total Annual Responses: 3,499 for parents; 1,776 for seniors; 52 for nutrition educators; 138 for principals and classroom teachers; 3 for school food service directors; 6 for retail produce managers; 6 for seniors' center program managers; 18 for subprogram level staff. See the tables, below.

Hours per Response: 0.25 for parents; an additional 2 for the 56 parents who consent to participate in structured group interviews; and an additional 0.67 for the 20 parents consenting to participate in in-depth, open-ended discussions. 0.25 for seniors; an additional 2 for the 48 seniors consenting to participate in structured group interviews; and an additional 0.67 for 3 seniors consenting to participate in in-depth, open-ended discussions. 0.25 for Iowa classroom teachers with an additional 0.5 for the 16 consenting to participate in in-depth, open-ended discussions. 0.17 for classroom teachers in Kentucky with an additional 0.25 for the 12 consenting to participate in in-depth, open-ended discussions. 0.25 for school principals in Iowa and 0.5 for principals in Kentucky. 0.5 for nutrition educators. 0.25 for school food service directors and retail produce managers. 0.67 for seniors' center managers. 0.67 for staff.

Maximum Estimated Total Annual Burden on Respondents: 2,050 hours for parents; 1,041 hours for seniors; 32 hours for teachers; 3.5 hours for school principals; 26 hours for nutrition educators, 1.5 hours for retail store produce managers; 0.8 hours for school food service directors; 4 hours for seniors' center managers; and 12.1 hours for staff.

Respondent | Estimated number of respondents | Average responses annually per respondent | Total annual responses | Average response burden in hours | Estimated total hours
Demonstration Project Respondents | 2,573 | 2.05 | 5,275 | 0.586 | 3,091
Direct Educators | 26 | 2 | 52 | 1.000 | 26
School Principals | 10 | 1 | 10 | 0.350 | 3.5
Classroom Teachers | 100 | 1.28 | 128 | 0.320 | 32
School Food Service Directors | 3 | 1 | 3 | 0.267 | 0.8
Retail store produce managers | 6 | 1 | 6 | 0.250 | 1.5
Program managers at senior centers | 6 | 1 | 6 | 0.667 | 4
Subprogram-level staff | 9 | 2 | 18 | 1.344 | 24
Burden Totals | 2,733 |  | 5,498 |  | 3,183

Dated: August 31, 2010.
Jeffrey Tribiano,
Acting Administrator, Food and Nutrition Service.

[FR Doc. 2010-22181 Filed 9-3-10; 8:45 am]

BILLING CODE 3410-30-P